DEPARTMENT OF HEALTH AND HUMAN SERVICES

Office of the Secretary

[Document Identifier: HHS-OS-17339-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary, Department of Health and Human Services, has submitted an Information Collection Request (ICR), described below, to the Office of Management and Budget (OMB) for review and approval. The ICR is for renewal of the approved information collection assigned OMB control number 0990-0302, scheduled to expire on November 31, 2012. Comments submitted during the first public review of this ICR will be provided to OMB. OMB will accept further comments from the public on this ICR during the review and approval period.

DATES: Comments on the ICR must be received on or before December 26, 2012.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the OMB control number 0990-0302 and document identifier HHS-OS-17339-30D for reference.

Information Collection Request Title: Medical Reserve Corps Unit Profile and Reports.

OMB No.: 0990-0302.

Abstract: Medical Reserve Corps (MRC) units are currently located in almost 1,000 communities across the United States, and represent a resource of more than 205,000 volunteers. In order to continue supporting the MRC units in communities across the United States, and to continue planning for future emergencies that are national in scope, detailed information about the MRC units, including unit demographics, contact information (regular and emergency), volunteer numbers, unit characteristics and information about activities is needed by the Division of Civilian Volunteer Medical Reserve Corps (DCVMRC). MRC Unit Leaders are asked to update this information on the MRC Web site at least quarterly, and to participate in a Technical Assistance Assessment at least annually. This OMB extension request is for 3 years.

Need and Proposed Use of the Information: DCVMRC uses MRC unit data in reports and presentations, and analyzes the data to assess the maturation and sustainment of the program, confirm that MRC units are carrying out activities in support of the Surgeon General's priorities, and to best tailor the technical assistance provided to MRC units. In addition, the data serves as an important recruitment tool for the individual MRC units. Often, before committing to volunteer with an MRC unit, potential volunteers go to the MRC Web site (www.medicalreservecorps.gov) to review the local MRC profile, which includes its name and point of contact, the most recent MRC unit activities, the community served, the date established, a narrative profile, and an up-to-date count of its volunteers.

Likely Respondents: MRC Unit Leaders

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
Form name | Number of respondents | Number of responses per respondent | Average burden per response (in hours) | Total burden hours
MRC Unit Registration Form | 1,000 | 6 | 1 | 6,000
Total |  | 6,000 |  | 6,000

Keith A. Tucker,
Information Collection Clearance Officer.

[FR Doc. 2012-28567 Filed 11-23-12; 8:45 am]

BILLING CODE 4150-47-P